DEPARTMENT OF AGRICULTURE

Rural Utilities Service

National Power Cooperative; Notice of Finding of No Significant Impact

AGENCY: Rural Utilities Service, USDA.

ACTION: Notice of finding of no significant impact.

SUMMARY: Notice is hereby given that the Rural Utilities Service (RUS) has made a finding of no significant impact (FONSI) with respect to a request from National Power Cooperative for financing assistance from the Rural Utilities Service (RUS) to finance the construction of a 500 megawatt combustion turbine plant in Van Wert County, Ohio.

FOR FURTHER INFORMATION CONTACT: Bob Quigel, Environmental Protection Specialist, Engineering and Environmental Staff, RUS, Stop 1571, 1400 Independence Avenue, SW, Washington, D.C. 20250-1571, telephone (202) 720-0468, e-mail at bquigel@rus.usda.gov.

SUPPLEMENTARY INFORMATION: The proposed plant will be a natural gas fired, simple cycle, combustion turbine plant constructed on a 56.5 acre site in Van Wert County, Ohio. About 30 acres of the site will be needed for the plant buildings and other structures. The site is located near Convoy just southwest of the intersection of Mentzer Road and Shaner Road. No natural gas pipeline or electric transmission line improvements will be needed beyond the proposed plant boundaries.

Based on its environmental assessment of the project, RUS has concluded that the construction and operation of the 500 megawatt plant at the proposed site would have no significant impact to the quality of the human environment. Therefore, RUS will not prepare an environmental impact statement for its action related to this project.

Copies of the FONSI are available from RUS at the address provided herein or from Keith A. Crabtree of National Power Cooperative at (614) 846-5757. Keith's e-mail address is kac@buckeyepower.com.

Dated: September 11, 2000.
Blaine D. Stockton, Jr.,
Assistant Administrator, Electric Program.

[FR Doc. 00-23827 Filed 9-15-00; 8:45 am]

BILLING CODE 3410-15-P